DEPARTMENT OF ENERGY

Federal Energy Regulatory Commission

[Docket Nos. ER05-6-055; EL04-135-057; EL02-111-075; EL03-212-071]

Midwest Independent Transmission System; Ameren Services Co., et al.; Errata Notice

May 4, 2006.

Take notice that on May 1, 2006, the Commission issued a notice of filing in Docket Nos. ER05-6-055. Combined Notice of Filings #1, (May 1, 2006). Docket Nos. EL04-135-057, EL02-111-075 and EL03-212-071 were inadvertently omitted from the caption of the proceeding. This notice corrects the caption to include all the Docket Nos. in the above-captioned proceeding.

Magalie R. Salas,
Secretary.

[FR Doc. E6-7177 Filed 5-10-06; 8:45 am]

BILLING CODE 6717-01-P